DEPARTMENT OF ENERGY

Federal Energy Regulatory Commission

[Docket No. PR11-107-000]

BG Energy Merchants, LLC, EXCO Operating Company, LP, v. Crosstex LIG, LLC, Notice of Complaint

Take notice that on May 3, 2011, pursuant to Rules 206 and 212 of the Rules of Practice and Procedure of the Federal Energy Regulatory Commission (Commission), 18 CFR 385.206 and 385.212 (2010) and the Commission's regulations of rates and charges for transportation services under section 311 of the Natural Gas Policy Act of 1978 (NGPA), 18 CFR 284.123 (2010), BG Energy Merchants, LLC and EXCO Operating Company, LP (Complainants) filed a formal complaint against Crosstex LIG, LLC (Respondent), alleging that Crosstex LIG, LLC assessed a fuel rate in violation of a stated contract rate resulting in unfair and inequitable charges.

Complainants state that copies of the complaint were served upon the Respondent's representatives as noted on the certificate of service and upon the Commissioner of Conservation of the State of Louisiana as an affected regulatory agency.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 23, 2011.

Dated: May 4, 2011.
Kimberly D. Bose,
Secretary.

[FR Doc. 2011-11500 Filed 5-10-11; 8:45 am]

BILLING CODE 6717-01-P